DEPARTMENT OF AGRICULTURE

Forest Service

Intermountain Region, Boise National Forest; Emmett Ranger District, Idaho; Scriver Creek Integrated Restoration Project

AGENCY: Forest Service, USDA.

ACTION: Notice of Intent to prepare a supplemental environmental impact statement

SUMMARY: The Forest Service will prepare a Supplemental Draft Environmental Impact Statement (SDEIS) to disclose the environmental consequences of implementing alternatives considered for the Scriver Creek Integrated Restoration Project. Following the public review period for the SDEIS, the Forest Service will issue the Final EIS and Record of Decision (ROD) which will identify the alternative selected by the Responsible Official for implementation.

The need for a SDEIS is to allow the Forest Service to clearly identify all permits, licenses and other entitlements which may be needed to implement the proposed activities that were not otherwise identified in the DEIS released December 30, 2011 (FR Vol. 76, No. 251; NOA for EIS No. 20110438). Specifically, an SDEIS is needed to identify that a National Pollutant Discharge Elimination System (NPDES) permit may be required and comments on the SDEIS will be requested from the appropriate regulatory agencies and public to help assess whether such a permit is required.

There have also been modifications made to the proposed action identified in the DEIS released December 30, 2011 concerning road systems, logging systems and watershed restoration opportunities as a result of updated field information. Additional alternatives may also be developed in response to comments received on the DEIS. Thus, the Responsible Official has determined that the purpose of the act [NEPA] would be furthered by issuing a SDEIS for additional review and comment prior to completion of the Final EIS.

DATES: Project scoping occurred in May 2010. No additional scoping efforts will occur as part of the SDEIS preparation process. The SDEIS is expected to be published on or about August 3, 2012. A 45-day comment period will begin the day following publication of the notice of availability (NOA) of the SDEIS in the Federal Register. The publication date in the Federal Register is the only means for calculating the comment period for the SDEIS. Based on an anticipated NOA publication date of August 3, 2012, comments on the SDEIS must be received on or before September 18, 2012. The Final EIS and ROD are anticipated to be released within 30 days following the close of the SDEIS comment period.

ADDRESSES: To request copies of the SDEIS or Final EIS and/or send written comments please write to Randall Hayman, Forest Planner, Boise National Forest; 1249 South Vinnell Way, Suite 200; Boise, Idaho 83709; or by fax at 208-373-4111; or you may hand-deliver your comments or requests to the Boise Forest Supervisor's Office, located at 1249 South Vinnell Way, Suite 200, Boise, during normal business hours from 7:30 a.m. to 4:30 p.m., Monday through Friday, excluding Federal holidays. Electronic requests or comments must be submitted in a format such as an email message, plain text (.txt), rich text format (AO, or Word (.doc) to: comments-intermtn-boise@fs.fed.us.

Comments or requests received in response to this publication, including names and addresses of those who respond, will be part of the public record for this proposed action.

FOR FURTHER INFORMATION CONTACT: Randall Hayman, Forest Planner, Boise National Forest at the address above.

Individuals who use telecommunication devices for the deaf (TDD) may call the Federal Information Relay Service (FIRS) at 1-800-877-8339 between 8 a.m. and 8 p.m., Eastern Time, Monday through Friday.

SUPPLEMENTARY INFORMATION: The project area covers approximately 11,500 acres in the Scriver Creek subwatershed. The Scriver Creek subwatershed is a tributary to the Middle Fork Payette River drainage, approximately 6 miles north of Crouch, Idaho. The project area is located entirely on National Forest System (NFS) lands in Sections 3-10, 15-18, and 20, T. 10 N., R. 4 E.; Sections 21-23, and 26-34, T. 11 N., R. 4 E., Boise Meridian, Boise and Valley Counties, Idaho.

Purpose and Need for Action: Three purposes have been identified for the project: (1) Manage forest structure, density and species composition to accelerate development of large tree and old forest habitat dominated by early seral tree species (e.g. Ponderosa pine) that will contribute to or achieve desired vegetation and associated wildlife habitat conditions within the project area; (2) Improve watershed conditions by reducing road-related impacts to wildlife, fish, soil, and water resources while providing for the transportation system necessary to meet long term management needs. (Scriver Creek Subwatershed Travel Analysis Process (TAP) Report (USDA Forest Service 2011b)); and (3) Utilize wood products resulting from restoration treatments to support local and regional economies.

Proposed Action: Vegetation restoration utilizing commercial timber harvest activities would be conducted on about 3,265 acres utilizing tractor/off-road jammer (1,212 acres), skyline (969 acres), and helicopter (1,084 acres) logging systems. In addition to the tractor/off-road jammer acres, mechanized feller bunchers (track mounted) would be used on acreage designated as skyline or helicopter yarding where ground slope is less than 35 percent; thinning of noncommercial trees would occur on approximately 3,265 acres following commercial timber harvest activities; and, noncommercial thinning of small diameter trees would also occur on an additional 839 acres of existing plantations. Approximately 163 acres of these plantation thinning activities would occur within riparian conservation areas (RCAs).

Activity fuel treatments would occur on approximately 4,104 acres, including: (1) Lopping of activity fuels on approximately 839 acres of non-commercially thinned plantations, slash would be lopped to a depth of no greater than 36 inches; (2) manipulation of activity fuels on approximately 1069 acres in lower elevation ponderosa pine forests including whole tree yarding with burning of landing piles (543 acres) and lopping of slash to a depth of no greater than 36 inches (526 acres); (3) prescribed underburn would occur on about 962 acres following activity fuels treatments; and (4) manipulation of activity fuels on approximately 2,196 acres in mid-elevation mixed conifer forests including whole tree yarding with burning of landings (627 acres), whole tree yarding with top haul back into units (1,011 acres), and lopping of slash to a depth of no greater than 36 inches (558 acres).

Road activities would occur on approximately 43.6 miles of roads in order to facilitate commercial timber harvest. Activities include: (1) Construction of about 2.7 miles of new specified NFS road; (2) construction of approximately 1.0 mile of temporary road; (3) realignment of a segment of NFS Road 696D (note, realignment would utilize approximately 0.4 miles of an existing unauthorized road prism and require about 0.1 miles of new road prism construction, and once relocation construction is completed approximately 0.1 miles of the relocated segment of NFS Road 696D would be decommissioned); and (4) road maintenance activities would occur on about 39.3 miles of NFS roads consistent with approved road management objectives (note, road maintenance activities may include but are not limited to road prism blading, spot aggregate placement, drainage improvements, roadway clearing, and roadway ditch/culvert inlets cleaning).

To improve watershed conditions approximately 16.1 miles of additional road activities would occur, including (1) decommissioning 12.8 miles of NFS roads and 3.3. miles of unauthorized routes; (2) NFS Road 696 would be realigned to provide long-term, year-long, access and eliminate segments of the road within the RCA corridors (note, realignment would utilize approximately 3.5 miles of existing NFS roads and require about 4.3 miles of new road prism construction, and once relocation construction is completed approximately 3.8 miles of the relocated segments of NFS Road 696 would be decommissioned); (3) road reconstruction activities would occur to upgrade the road surface type through placement of new surface aggregate on about 2.8 miles of NFS roads; (4) placement of new aggregate for up to 300 feet on both sides of perennial stream crossings along NFS roads to be used for commercial harvest activities, except on NFS roads proposed to be decommissioned; and (5) three road/stream crossings would be replaced in order to provide aquatic organism passage.

The proposed action would provide approximately 16.5 million board feet (mmbf) as sawlogs to local and/or regional processing facilities to support regional and local economies.

Possible Alternatives: Additional alternatives may be developed that include: (1) Adding acres for vegetation restoration over that identified in the proposed action in areas accessible from the existing transportation system to improve management efficiency and economic return to support other restoration work; (2) greater retention of late seral large diamter trees throughout the project area; (3) using termporary roads rather than constructing new permanent NFS roads to facilitate timber harvest; (4) removal of commercial treatment units adjacent to Inventoried Roadless Areas (IRA) to reduce visual impacts as seen from recreationists using the IRA; and (5) replacement of additional road/stream crossing to provide aquatic organism passage.

Responsible Official: The Responsible Official is the Forest Supervisor for the Boise National Forest, Cecilia R. Seesholtz.

Nature of Decision To Be Made: The decisions to be made include (1) Should vegetation restoration in the project area be done, and if so, which forested stands should be treated and what silvicultural treatments should be applied? (2) Should activity fuel treatments be completed at this time in the project area, and if so, which treatments should be applied? (3) Should modifications be made to the NFS transportation system as recommended by the Scriver Creek Subwatershed Travel Analysis Process (TAP) Report (USDA Forest Service 2011b), and if so, which road activities should occur? (4) What design features, mitigation measures, and/or monitoring should be applied to the project?

Preliminary Issues: Five preliminary issues have been identified: (1) Restoration can be expensive; to improve efficiency and funding support of restoration efforts within the Scriver drainage, additional acres in need of vegetation restoration that are accessible from the existing transporation system should be included; (2) Commercial treatments adjacent to IRAs may impact visual values as viewed by recreationists within the IRA, thus commercial harvest treatments adjacent to IRAs should be eliminated; (3) Permanent national forest system (NFS) roads can increase long term resource impacts and road maintenance funding needs; permanent NFS roads should not be constructed to support timber harvest where temporary roads could meet the access need; (4) To ensure funding for restoration can be capitalized upon when it becomes available, all known soil and water restoration needs within the project area should be identified and included to ensure the NEPA decision is in place to support their immediate implementation; and, (5) Some wildlife species will be impacted by proposed restoration activities which include removal of a portion of the large diameter late seral tree species (e.g. grand fir) in order to promote restoration objectives for early seral tree species (e.g. ponderosa pine); because large diameter trees within low to mid-elevation forests are believed to be relatively scarce on the landscape compared to historic levels, all large diameter trees, regardless of tree species, should be retained to support wildlife species associated with the existing mix of large tree species.

Permits and Licenses That May Be Required: The following permits may be required to implement the Proposed Action under the Clean Water Act: (1) Part 401 Compliance from the Idaho Department of Environmental Quality; (2) Part 401 Stream Alteration Permit from the Idaho Department of Water Resources; (3) Part 404 Permit from the U.S. Army Corps of Engineers; and, (4) National Pollutant Discharge Elimination System (NPDES) permit from the U.S. Environmental Protection Agency.

Early notice of importance of public participation in subsequent environmental review: Project scoping occurred in May 2010. No additional scoping efforts will occur as part of the SDEIS preparation process. A Notice of Availability (NOA) will be published in the Federal Register and a legal notice will be published in the newspaper of record for the Boise National Forest, the Idaho Statesman, to inform the public when the SDEIS is available for review and comment. The SDEIS will be distributed to all parties who responded during the scoping process in May 2010, to the DEIS released in December 2011, or who otherwise notified the Agency at some point, including following publication of this NOI to prepare a SDEIS, of their interest to continue to receive information pertaining to this proposal.

The SDEIS is expected to be published on or about August 3, 2012. The comment period on the SDEIS will end 45 days following the date of publication of the notice of availability (NOA) in the Federal Register. The publication date in the Federal Register is the only means for calculating the comment period for the SDEIS. Based on an anticipated SDEIS NOA publication date of August 3, 2012, comments on the SDEIS must be received on or before September 18, 2012. The Final EIS and ROD are anticipated to be released within 30 days following the close of the SDEIS comment period.

The Forest Service believes, at this early stage, it is important to give reviewers notice of several court rulings related to public participation in the environmental review process. First, reviewers of Draft EISs, including SDEISs, must structure their participation in the environmental review of the proposal so that it is meaningful and alerts an agency to the reviewer's position and contentions. Vermont Yankee Nuclear Power Corp. v. NRDC, 435 U.S. 519, 553 (1978). Also, environmental objections that could be raised at the Draft EIS, or SDEIS, stage but that are not raised until after completion of the final environmental impact statement may be waived or dismissed by the courts. City of Angoon v. Hodel, 803 F. 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the SDEIS should be as specific as possible. It is also helpful if comments refer to specific pages or chapters of the SDEIS. Comments may also address the adequacy of the SDEIS or the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment periods for both the DEIS released in December 2011 and the SDEIS anticipated to be released in August 2012.

Authority: 40 CFR 1502.9; Forest Service Handbook 1909.15, Section 18.2.

Dated: June 11, 2012.
Cecilia R. Seesholtz,
Forest Supervisor, Boise National Forest.

[FR Doc. 2012-14657 Filed 6-15-12; 8:45 am]

BILLING CODE 3410-11-M